OFFICE OF MANAGEMENT AND BUDGET

Proposed Information Collection Activities: Request for Comments

AGENCY: Office of Management and Budget.

ACTION: Notice.

SUMMARY: In accordance with the Paperwork Reduction Act (44 U.S.C. 3501 et seq.), the Office of Management and Budget (OMB) invites the general public and Federal agencies to comment on the extension without change of standard form, SF-424, Application for Federal Assistance. This form is currently required by OMB Circular A-102, “Grants and Cooperative Agreements with State and Local Governments,” and Title 2 Code of Federal Regulations part 215 (OMB Circular A-110, “Uniform Administrative Requirements for Grants and Agreements with Institutions of Higher Education, Hospitals, and Other Non-Profit Organizations.” The form will continue to be used while the E-GOV Grants.gov interagency team completes their analysis of public comments received in response to an April 8, 2003, Federal Register notice [68 FR 17090] and finalizes the government-wide data standard.

DATES: Comments must be submitted on or before December 28, 2004. Late comments will be considered to the extent practicable.

ADDRESSES: Due to potential delays in OMB's receipt and processing of mail sent through the U.S. Postal Service, we encourage respondents to submit comments electronically to ensure timely receipt. We cannot guarantee that comments mailed will be received before the comment closing date. Electronic mail comments may be submitted to: ephillip@omb.eop.gov. Please include “SF-424” in the subject line and the full body of your comments in the text of the electronic message (and as an attachment if you wish). Please include your name, title, organization, postal address, telephone number, and E-mail address in the text of the message. Comments may also be submitted via facsimile to 202-395-3952. Comments may be mailed to Elizabeth Phillips, Office of Federal Financial Management, Office of Management and Budget, Room 6025, New Executive Office Building, 725 17th Street, NW., Washington, DC 20503.

FOR FURTHER INFORMATION CONTACT: Elizabeth Phillips, Office of Federal Financial Management, Office of Management and Budget, (202) 395-3993. The standard forms can be downloaded from the OMB Grants Management home page (http://www.whitehouse.gov/omb/grants).

OMB Control No.: 0348-0043.

Title: Application for Federal Assistance.

Form No.: SF-424.

Type of Review: Extension of a currently approved collection.

Respondents: States, Local Governments, Non-Profit Organizations.

Number of Responses: 100,000.

Estimated Time Per Response: 20 minutes.

Needs and Uses: The SF-424 is used to provide general information about the entity and the proposed project when applying for Federal assistance under grant and cooperative agreement awards. The Federal awarding agencies use information reported on this form for the pre-award and award processes.

Office of Management and Budget.
David Zavada,
Chief, Financial Standards and Grants Branch.

[FR Doc. 04-24197 Filed 10-28-04; 8:45 am]

BILLING CODE 3110-01-P